Title 3—

The President

Executive Order 13437 of June 28, 2007

Waiver Under the Trade Act of 1974 With Respect to Turkmenistan

By the authority vested in me as President by the Constitution and the laws of the United States of America, including sections 402(c)(2) and (d) of the Trade Act of 1974, as amended (the “Act”)(19 U.S.C. 2432(c)(2) and (d)), and having made the report to the Congress set forth in section 402(c)(2), I hereby waive the application of subsections (a) and (b) of section 402 of the Act with respect to Turkmenistan.

THE WHITE HOUSE,

June 28, 2007.

[FR Doc. 07-3259

Filed 7-2-07; 8:45 am]

Billing code 3195-01-P